DEPARTMENT OF COMMERCE

National Oceanic and Atmospheric Administration

RIN 0648-XA117

Gulf of Mexico Fishery Management Council; Public Meeting

AGENCY: National Marine Fisheries Service (NMFS), National Oceanic and Atmospheric Administration (NOAA), Commerce.

ACTION: Council to convene a public meeting.

SUMMARY: The Gulf of Mexico Fishery Management Council will convene a meeting of the Standing, Special Spiny Lobster and Special Reef Fish Scientific and Statistical Committees.

DATES: The meeting will convene at 1 p.m. on Tuesday, January 18, 2011 and conclude by noon on Friday, January 21, 2011.

ADDRESSES: The meeting will be held at the Gulf of Mexico Fishery Management Council, 2203 North Lois Avenue, Suite 1100, Tampa, FL 33607; telephone: (813) 348-1630.

Council address: Gulf of Mexico Fishery Management Council, 2203 N. Lois Avenue, Suite 1100, Tampa, FL 33607.

FOR FURTHER INFORMATION CONTACT: Steven Atran, Population Dynamics Statistician; Gulf of Mexico Fishery Management Council; telephone: (813) 348-1630.

SUPPLEMENTARY INFORMATION: The Committee will meet to review several recently completed stock assessments and supplemental assessment analyses, and to recommend levels of acceptable biological catch. During the first day of the meeting, the Standing and Special Spiny Lobster Scientific and Statistical Committees will meet jointly to review a spiny lobster update assessment and make recommendations to the Council. The remainder of the meeting will be a joint meeting of the Standing and Special Reef Fish Scientific and Statistical Committee, which will begin upon completion of the spiny lobster portion of the meeting. The Committee will review draft terms of reference for a gray triggerfish update assessment and a vermilion snapper update assessment to be conducted in 2011. The Committee will then review a re-run of the 2009 gag update assessment with a corrected size distribution for the recreational discard data and commercial discard estimates based on observer data. The Committee will also review the impact of applying observer based discard estimates on the 2009 red grouper update assessment. The Committee will then review the following assessments: Greater amberjack update assessment, SEDAR 15 mutton snapper benchmark assessment, and SEDAR 23 goliath grouper benchmark assessment.

Copies of the agenda and other related materials can be obtained by calling (813) 348-1630 or can be downloaded from the Council's ftp site, ftp.gulfcouncil.org.

Although other non-emergency issues not on the agenda may come before the Scientific and Statistical Committees for discussion, in accordance with the Magnuson-Stevens Fishery Conservation and Management Act, those issues may not be the subject of formal action during this meeting. Actions of the Scientific and Statistical Committees will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Trish Kennedy at the Council (see ADDRESSES) at least 5 working days prior to the meeting.

Dated: December 23, 2010.
Tracey L. Thompson,
Acting Director, Office of Sustainable Fisheries, National Marine Fisheries Service.

[FR Doc. 2010-32737 Filed 12-28-10; 8:45 am]

BILLING CODE 3510-22-P